DEPARTMENT OF ENERGY

Federal Energy Regulatory Commission

[Docket Nos. EG11-115-000, EG11-116-000, EG11-118-000, EG11-119-000, EG11-120-000, EG11-121-000, EG11-122-000, EG11-123-000, EG11-124-000]

Notice of Effectiveness of Exempt Wholesale Generator Status; Caney River Wind Project, LLC, Mesquite Solar 1, LLC, Copper Crossing Solar LLC, Copper Mountain Solar 1, LLC, Pinnacle Wind, LLC, Bellevue Solar, LLC, Yamhill Solar, LLC, Osage Wind, LLC, Minco Wind II, LLC

Take notice that during the month of October 2011, the status of the above-captioned entities as Exempt Wholesale Generators became effective by operation of the Commission's regulations. 18 CFR 366.7(a).

Dated: November 30, 2011.
Kimberly D. Bose,
Secretary.

[FR Doc. 2011-31212 Filed 12-5-11; 8:45 am]

BILLING CODE 6717-01-P